DEPARTMENT OF TRANSPORTATION

Federal Aviation Administration

14 CFR Part 39

[Docket No. FAA-2005-22697; Directorate Identifier 2004-SW-46-AD; Amendment 39-14509; AD 2006-06-01]

RIN 2120-AA64

Airworthiness Directives; Eurocopter France Model EC 155B and B1 Helicopters

AGENCY: Federal Aviation Administration, DOT.

ACTION: Final rule.

SUMMARY: This amendment adopts a new airworthiness directive (AD) for the specified Eurocopter France (ECF) model helicopters that requires inspecting an electrical cable bundle for wear. If wear is present, the AD requires installing an airworthy cable bundle and modifying the routing of the electrical cable bundles. This amendment is prompted by reports of a short circuit in the wiring, which led to failure of the normal and emergency landing gear operation modes. The actions specified by this AD are intended to prevent interference of the wiring with the structure resulting in an electrical short circuit, failure of the landing gear to extend, and an emergency landing.

DATES: Effective April 18, 2006.

The incorporation by reference of certain publications listed in the regulations is approved by the Director of the Federal Register as of April 18, 2006.

ADDRESSES: You may get the service information identified in this AD from American Eurocopter Corporation, 2701 Forum Drive, Grand Prairie, Texas 75053-4005, telephone (972) 641-3460, fax (972) 641-3527.

Examining the Docket

You may examine the docket that contains this AD, any comments, and other information on the Internet at http://dms.dot.gov, or at the Docket Management System (DMS), U.S. Department of Transportation, 400 Seventh Street, SW., Room PL-401, on the plaza level of the Nassif Building, Washington, DC.

FOR FURTHER INFORMATION CONTACT: Jorge Castillo, Aviation Safety Engineer, FAA, Rotorcraft Directorate, Regulations and Policy Group, Fort Worth, Texas 76193-0111, telephone (817) 222-5127, fax (817) 222-5961.

SUPPLEMENTARY INFORMATION: A proposal to amend 14 CFR part 39 to include an AD for the specified ECF model helicopters was published in the Federal Register on October 17, 2005 (70 FR 199). The action proposed to require inspecting an electrical cable bundle for wear. If wear is present, the AD proposed installing an airworthy cable bundle and modifying the routing of the electrical cable bundles.

A correction to that proposal was published in the Federal Register on January 20, 2006 (71 FR 3248). That action corrected the docket number throughout the proposal changing it from FAA-2005-22696 to FAA-2005-22697.

The Direction Generale de l'Aviation Civile (DGAC), the airworthiness authority for France, notified the FAA that an unsafe condition may exist on ECF Model EC 155 helicopters. The DGAC advises of the occurrence of a short circuit that occurred in the wiring of panel 12 Alpha making the landing gear inoperative.

ECF has issued Alert Service Bulletin No. 24A011 (ASB), dated March 11, 2004, subsequently revised on May 14, 2004, which specifies checking the condition of the wiring and modifying its routing to preclude the risk of interference and associated damage. The May 14, 2004, revision to the ASB also specifies preventing any interference of the wiring with the head of the vent line attaching clamp by replacing wiring kit 365A0739C28.71 with wiring kit 365A0739C28.72. The DGAC classified these ASBs as mandatory and issued AD No. F-2004-057 R1 dated July 21, 2004, to ensure the continued airworthiness of these helicopters in France.

These helicopter models are manufactured in France and are type certificated for operation in the United States under the provisions of 14 CFR 21.29 and the applicable bilateral agreement. Pursuant to the applicable bilateral agreement, the DGAC has kept us informed of the situation described above. We have examined the findings of the DGAC, reviewed all available information, and determined that AD action is necessary for products of this type design that are certificated for operation in the United States.

Interested persons have been afforded an opportunity to participate in the making of this amendment. No comments were received on the proposal or the FAA's determination of the cost to the public. The FAA has determined that air safety and the public interest require the adoption of the rule as proposed except for correcting the docket number from FAA-2005-22696 to FAA-2005-22697. Also, we have expanded the contact address in paragraph (b) in the body of the AD to provide more information to the public. These changes will neither increase the economic burden on any operator nor increase the scope of this AD.

We estimate that this AD will affect 7 helicopters of U.S. registry. It will take about 16 work hours to inspect and modify the wiring per helicopter at an average labor rate of $65 per work hour. Required parts and material will cost about $240. Based on these figures, we estimate the total cost impact of the AD on U.S. operators to be $8,960, assuming that all of the helicopters are modified.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2006-06-01 Eurocopter France: Amendment 39-14509. Docket No. FAA-2005-22697, Directorate Identifier 2004-SW-46-AD.

Applicability

Model EC 155B and B1 helicopters, certificated in any category.

Compliance

Required as indicated, unless accomplished previously.

To prevent interference of the wiring with the structure resulting in an electrical short circuit, failure of the landing gear to extend, and an emergency landing, accomplish the following:

(a) Within 50 hours time-in-service (TIS),

(1) Inspect the wiring of panel 12 Alpha (wiring) electrical cable bundle for wear. If wear is present, replace the worn cable bundle with an airworthy cable bundle by following the Accomplishment Instructions, paragraphs 2.A.1, 2.B.1., and 2.B.2 of Eurocopter Alert Service Bulletin EC155 No. 24A011, Revision 1, dated May 14, 2004 (ASB).

Note 1: Aircraft Maintenance Manual (AMM): Tasks 24.00.00.911 and 32-30-00-721 and Standard Practices Manual (MTC) Work Cards 20.02.01.415, 20.06.01.310, 20.06.01.406, and 20.02.06.409 pertain to the subject of this AD.

(2) Modify the routing of the electrical wiring (MOD 0739C28) and replace spreaders and spacers by following the Accomplishment Instructions, paragraph 2.B.3. through 2.B.9. of the ASB.

(b) To request a different method of compliance or a different compliance time for this AD, follow the procedures in 14 CFR 39.19. Contact the Rotorcraft Directorate, Regulations and Policy Group, FAA, ATTN: Jorge Castillo, Aviation Safety Engineer, Fort Worth, Texas 76193-0111, telephone (817) 222-5127, fax (817) 222-5961 for information about previously approved alternative methods of compliance.

(c) Special flight permits will not be issued.

(d) Inspect and modify the routing of the electrical wiring and replace any electrical parts in accordance with the specified portions of Eurocopter Alert Service Bulletin EC155 No. 24A011, Revision 1, dated May 14, 2004. The Director of the Federal Register approved this incorporation by reference in accordance with 5 U.S.C. 552(a) and 1 CFR part 51. Copies may be obtained from American Eurocopter Corporation, 2701 Forum Drive, Grand Prairie, Texas 75053-4005, telephone (972) 641-3460, fax (972) 641-3527. Copies may be inspected at the National Archives and Records Administration (NARA). For information on the availability of this material at NARA, call 202-741-6030, or go to: http://www.archives.gov/federal_register/code_of_federal_regulations/ibr_locations.html.

(e) This amendment becomes effective on April 18, 2006.

Note 2: The subject of this AD is addressed in Direction Generale de l'Aviation Civile (France) AD F-2004-057 R1, dated July 21, 2004.

Issued in Fort Worth, Texas, on February 23, 2006.
David A. Downey,
Manager, Rotorcraft Directorate, Aircraft Certification Service.

[FR Doc. 06-2357 Filed 3-13-06; 8:45 am]

BILLING CODE 4910-13-P